FARM CREDIT ADMINISTRATION

12 CFR Part 652

Federal Agricultural Mortgage Corporation Funding and Fiscal Affairs

CFR Correction

In Title 12 of the Code of Federal Regulations, Parts 600 to 899, revised as of January 1, 2015, on page 344, in appendix A to subpart B to part 652, in the table of contents, add “1.0 Introduction.”.

[FR Doc. 2015-31730 Filed 12-16-15; 8:45 am]

BILLING CODE 1505-01-D